DEPARTMENT OF AGRICULTURE

Submission for OMB Review; Comment Request

The Department of Agriculture will submit the following information collection requirement(s) to OMB for review and clearance under the Paperwork Reduction Act of 1995, Public Law 104-13 on or after the date of publication of this notice. Comments are requested regarding: (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding these information collections are best assured of having their full effect if received by April 10, 2024. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

National Agricultural Statistics Service (NASS)

Title: Fruit, Nuts, And Specialty Crops—Substantive Change.

OMB Control Number: 0535-0039.

Summary of Collection: The primary function of the National Agricultural Statistics Service (NASS) is to prepare and issue current official state and national estimates of crop and livestock production. Estimates of fruit, tree nuts, and specialty crops are an integral part of this program. These estimates support the NASS strategic plan to cover all agricultural cash receipts. The authority to collect these data activities is granted under U.S. Code title 7, section 2204(a). Information is collected on a voluntary basis from growers, processors, and handlers through surveys. Individually identifiable data collected under this authority are governed by Section 1770 of the Food Security Act of 1985, as amended, 7 U.S.C. 2276, and title III of Public Law 115-435 (CIPSEA) which requires USDA to afford strict confidentially to non-aggregated data provided by respondents.

The National Agricultural Statistics Service (NASS) is requesting a substantive change to the Fruit, Nuts, And Specialty Crops information collection request (OMB No. 0535-0039) for program changes. Every five years NASS conducts a program review following the completion of the Census of Agriculture. The program changes balance resources across all of the programs included in the annual estimating program, which represents over 400 individual reports across multiple Information Collection Requests (ICRs). This substantive change is to accommodate the field crop program changes that affect this ICR. The methodology, publication dates, burden and data collection plan do not change as result of these program changes. This change request also includes some nonsubstantive changes for the May 2024 Maple Syrup Inquiry. The changes to these surveys will not affect burden hours.

Need and Use of the Information: Data reported on fruit, nut, and specialty crops are used by NASS to estimate crop acreage, yield, production, utilization, price, and value in States with significant commercial production. These estimates are essential to farmers, processors, importers and exporters, shipping companies, cold storage facilities and handlers in making production and marketing decisions. Estimates from these inquiries are used by market order administrators in their determination of expected crop supplies under Federal and State market orders.

Description of Respondents: Farms; Business or other for-profit.

Number of Respondents: 55,435.

Frequency of Responses: On occasion; Annually; Semi-annually; Quarterly; Monthly; Weekly.

Total Burden Hours: 28,114.

Levi S. Harrell,
Departmental Information Collection Clearance Officer.

[FR Doc. 2024-05086 Filed 3-8-24; 8:45 am]

BILLING CODE 3410-20-P